DEPARTMENT OF COMMERCE

National Oceanic and Atmospheric Administration

50 CFR Part 622

[Docket No. 100610255-0257-01]

RIN 0648-AY89

Fisheries of the Caribbean, Gulf of Mexico, and South Atlantic; Gulf of Mexico Reef Fish Fishery; 2010 Accountability Measures for Greater Amberjack

AGENCY: National Marine Fisheries Service (NMFS), National Oceanic and Atmospheric Administration (NOAA), Commerce.

ACTION: Temporary rule.

SUMMARY: NMFS implements accountability measures (AMs) for commercial and recreational greater amberjack in the Gulf of Mexico (Gulf) for the 2010 fishing year through this temporary final rule. This rule reduces the 2010 commercial quota for greater amberjack based on the 2009 quota overage and provides an estimated season length for the 2010 recreational greater amberjack sector of the Gulf reef fish fishery. These actions are necessary to reduce overfishing of the Gulf greater amberjack resource.

DATES: This rule is effective June 22, 2010 through December 31, 2010, except for the amendments to § 622.42, paragraphs (a)(1)(v) and (a)(2)(ii), which are effective June 22, 2010.

ADDRESSES: Copies of the final rule for Amendment 30A, the Final Supplemental Environmental Impact Statement (FSEIS) for Amendment 30A, and other supporting documentation may be obtained from Rich Malinowski, NMFS, Southeast Regional Office, 263 13th Avenue South, St. Petersburg, FL 33701; telephone: 727-824-5305.

FOR FURTHER INFORMATION CONTACT: Rich Malinowski, telephone: 727-824-5305, e-mail Rich.Malinowski@noaa.gov.

SUPPLEMENTARY INFORMATION: The reef fish fishery of the Gulf is managed under the Fishery Management Plan for Reef Fish Resources of the Gulf of Mexico (FMP). The FMP was prepared by the Gulf of Mexico Fishery Management Council (Council) and is implemented under the authority of the Magnuson-Stevens Fishery Conservation and Management Act (Magnuson-Stevens Act) by regulations at 50 CFR part 622.

Background

The 2006 reauthorization of the Magnuson-Stevens Act implemented new requirements that annual catch limits (ACLs) and AMs be established to end overfishing and prevent overfishing from occurring. AMs are management controls to prevent ACLs from being exceeded, and correct or mitigate overages of the ACL if they occur. Section 303(a)(15) of the Magnuson-Stevens Act mandates the establishment of ACLs at a level such that overfishing does not occur in the fishery, including measures to ensure accountability.

On July 3, 2008, NMFS issued a final rule (73 FR 38139) to implement Amendment 30A to the FMP (Amendment 30A). Amendment 30A established commercial and recreational quotas for Gulf greater amberjack and AMs that would go into effect if the commercial and recreational quotas for greater amberjack are exceeded. In accordance with regulations at 50 CFR part 622.49(a)(1)(i), when the applicable commercial quota is reached, or projected to be reached, the Assistant Administrator for Fisheries, NOAA, (AA), will file a notification with the Office of the Federal Register to close the commercial sector for the remainder of the fishing year. If despite such closure, commercial landings exceed the quota, the AA will reduce the quota the year following an overage by the amount of the overage of the prior fishing year.

Amendment 30A also implemented AMs for the Gulf greater amberjack recreational sector of the reef fish fishery. As described at 50 CFR part 622.40(a)(1)(ii), if recreational landings are met or projected to be met, the AA will close the recreational sector for the remainder of the fishing year. In addition, if recreational landings exceed the quota, the AA will reduce the length of the recreational fishing season the year following an overage by the amount necessary to recover the overage of the prior fishing year. Also, if necessary, the reduced fishing season may be adjusted during the fishing year to ensure the recreational harvest achieves, but does not exceed the intended harvest level.

Management Measures Contained in this Temporary Rule

In 2009, the commercial sector of greater amberjack was closed on November 7, when the commercial quota of 503,000 lb (228,157 kg) was determined to be reached. Finalized 2009 commercial landings data indicate the commercial quota was exceeded by 25.8 percent, or 129,928 lb (58,934 kg). Therefore, the reduced 2010 commercial quota for Gulf greater amberjack is 373,072 lb (169,222 kg). The 2011 commercial quota for greater amberjack will return to the 2009 quota amount unless accountability measures are implemented due to a quota overage and a reduced quota is specified through notification in the Federal Register, or subsequent regulatory action is taken to adjust the quota.

Also, in 2009, the recreational quota for Gulf greater amberjack of 1,368,000 lb (620,514 kg) was projected to be met and the sector closed on October 24, 2009. Finalized 2009 recreational landings data indicate the recreational quota was exceeded by 9 percent or 124,817 lb (56,616 kg). Based on the 2009 quota overage, the reduced 2010 recreational quota of 1,243,184 lb (563,899 kg) for Gulf greater amberjack is projected to be met in late August. Given the dynamic nature of the ongoing Deepwater Horizon/BP oil spill in the Gulf and the conditions currently influencing recreational harvest in the area, it is impossible to provide a more specific closure projection at this time. The 2011 recreational quota for greater amberjack will return to the 2009 quota amount unless accountability measures are implemented due to a quota overage and a reduced quota is specified through notification in the Federal Register, or subsequent regulatory action is taken to adjust the quota.

NMFS recently implemented an increased sampling protocol for recreational fishing vessels in the Gulf to provide more timely and localized tracking of changes in charter boat fishing effort that may be related to the oil spill. The number of captain interviews conducted weekly will substantially increase thereby making it possible to produce a weekly rather than bi-monthly report on fishing effort. This increase in data collection will allow NMFS to better determine the effects of the oil spill on Gulf recreational fisheries. Results from the increased sampling program can be used to evaluate fishery closures for such species as greater amberjack. The exact closure date of the recreational season for greater amberjack will be published in the Federal Register after data become available to evaluate the effects of the oil spill on this fishery. The 2011 recreational quota for greater amberjack will return to the 2009 quota amount unless accountability measures are implemented due to a quota overage and a reduced quota is specified through notification in the Federal Register, or subsequent regulatory action is taken to adjust the quota.

Classification

The Administrator, Southeast Region, NMFS, (RA) has determined this temporary rule is necessary for the conservation and management of the Gulf greater amberjack component of the Gulf reef fish fishery and is consistent with the Magnuson-Stevens Act and other applicable laws.

The temporary rule has been determined to be not significant for purposes of Executive Order 12866.

These measures are exempt from the procedures of the Regulatory Flexibility Act because the temporary rule is issued without opportunity for prior notice and comment.

NMFS prepared a FSEIS for Amendment 30A. A notice of availability for the FSEIS was published on April 18, 2008 (73 FR 21124). A copy of the FSEIS and the ROD are available from NMFS (see ADDRESSES).

Pursuant to 5 U.S.C. 553(b)(B), there is good cause to waive the requirements to provide prior notice and opportunity for public comment on this temporary rule as such procedures are unnecessary because the AMs established by Amendment 30A and located at 50 CFR part 622.49(a)(1)(i) and (ii) authorize the AA to file a notice with the Office of the Federal Register to reduce the commercial quota the following fishing year if an overage occurs and reduce the length of the recreational fishing season the following fishing year if an overage occurs. The final rule for Amendment 30A implementing these AMs was subject to notice and comment, and all that remains is to notify the public of the 2010 commercial quota and season length for the 2010 recreational fishing season.

Also, providing prior notice and opportunity for public comment on this action would be contrary to the public interest. Many of those affected by the recreational season duration, particularly charter vessel and headboat operations, book trips for clients in advance and, therefore, need as much time as possible to adjust business plans to account for the season length. Delaying the announcement of the projected recreational season length to accommodate prior notice and comment would result in significantly less advance notice of the duration of the recreational season; decrease the time available for affected participants to adjust business plans; and be very disruptive. Given the legal obligation for NMFS to announce the duration of recreational season in a timely manner, it is important this announcement be made as soon as possible to allow affected participants the maximum amount of time to adjust their fishing activities to account for a potential late August closure of recreational greater amberjack.

For the aforementioned reasons, the AA also finds good cause to waive the 30-day delay in the effectiveness of this action under 5 U.S.C. 553(d)(3).

List of Subjects in 50 CFR Part 622

Fisheries, Fishing, Puerto Rico, Reporting and recordkeeping requirements, Virgin Islands.

Dated: June 16, 2010.
Samuel D. Rauch III,
Deputy Assistant Administrator for Regulatory Programs, National Marine Fisheries Service.

For the reasons set out in the preamble, 50 CFR part 622 is amended as follows:

PART 622-FISHERIES OF THE CARIBBEAN, GULF, AND SOUTH ATLANTIC

1. The authority citation for part 622 continues to read as follows:

Authority: 16 U.S.C. 1801 et seq.

2. In § 622.42, paragraphs (a)(1)(v) and (a)(2)(ii) are removed and reserved and (a)(1)(vii) and (a)(2)(iii) are added to read as follows:

§ 622.42 Quotas.

(a) * * *

(1) * * *

(vii) Commercial quota for greater amberjack. The commercial quota for greater amberjack is 503,000 lb (228,157 kg), round weight, unless accountability measures are implemented during the fishing year pursuant to § 622.49(a)(1)(i), due to a quota overage occurring the previous year, in which case a reduced quota will be specified through notification in the Federal Register.

(2) * * *

(iii) Recreational quota for greater amberjack. The recreational quota for greater amberjack is 1,368,000 lb (620,514 kg), round weight, unless accountability measures are implemented during the fishing year pursuant to § 622.49(a)(1)(ii), due to a quota overage occurring the previous year, in which case a reduced quota will be specified through notification in the Federal Register.

[FR Doc. 2010-15071 Filed 6-22-10; 8:45 am]

BILLING CODE 3510-22-S